SMALL BUSINESS ADMINISTRATION

[Declaration of Disaster #3348]

State of Louisiana; Amendment #2

In accordance with a notice received from the Federal Emergency Management Agency, dated June 22, 2001, the above-numbered Declaration is hereby amended to establish the incident period for this disaster as occurring between June 5, 2001 and continuing through June 22, 2001.

All other information remains the same, i.e., the deadline for filing applications for physical damage is August 10, 2001, and for loans for economic injury is March 11, 2002.

(Catalog of Federal Domestic Assistance Program Nos. 59002 and 59008.)
Dated: June 25, 2001.
Herbert L. Mitchell,
Associate Administrator for Disaster Assistance.

[FR Doc. 01-16429 Filed 6-28-01; 8:45 am]

BILLING CODE 8025-01-P